DEPARTMENT OF ENERGY

Federal Energy Regulatory Commission

Combined Notice of Filings #1

Take notice that the Commission received the following electric rate filings:

Docket Numbers: ER10-1513-002.

Applicants: Wolverine Power Supply Cooperative, Inc.

Description: Notification of Change in Status of Wolverine Power Supply Cooperative, Inc.

Filed Date: 1/30/12.

Accession Number: 20120130-5312.

Comments Due: 5 p.m. ET 2/21/12.

Docket Numbers: ER10-1627-001; ER12-60-002; ER10-1632-002.

Applicants: Tenaska Power Services Co., Tenaska Washington Partners, L.P., Tenaska Power Management, LLC.

Description: Notification of Change in Status of Tenaska Washington Partners, L.P., et al.

Filed Date: 1/30/12.

Accession Number: 20120130-5315.

Comments Due: 5 p.m. ET 2/21/12.

Docket Numbers: ER10-2319-005; ER10-2320-005; ER10-2317-004; ER10-2322-006; ER10-2324-005; ER10-2325-004; ER10-2332-005; ER10-2326-006; ER10-2327-007; ER10-2328-005; ER10-2343-006; ER10-2331-006; ER11-4609-004; ER10-2330-006.

Applicants: J.P. Morgan Ventures Energy Corporation, Triton Power Michigan LLC, BE Allegheny LLC, BE CA LLC, BE Ironwood LLC, BE KJ LLC, BE Rayle LLC, BE Alabama LLC, BE Louisiana LLC, Cedar Brakes I, L.L.C., Utility Contract Funding, L.L.C., Central Power & Lime LLC, Cedar Brakes II, L.L.C., J.P. Morgan Commodities Canada Corporation.

Description: BE Alabama LLC, et al. Notice of Non-Material Change in Status.

Filed Date: 1/30/12.

Accession Number: 20120130-5080.

Comments Due: 5 p.m. ET 2/21/12.

Docket Numbers: ER11-4219-001.

Applicants: Michigan Electric Transmission Company, Wolverine Power Supply Cooperative, Inc.

Description: Compliance Filing to be effective 5/6/2011.

Filed Date: 1/30/12.

Accession Number: 20120130-5232.

Comments Due: 5 p.m. ET 2/21/12.

Docket Numbers: ER12-316-001.

Applicants: NorthWestern Corporation.

Description: Compliance Filing—Revision to MT OATT Schedule 3 Regarding Self-Supply to be effective 12/31/2011.

Filed Date: 1/30/12.

Accession Number: 20120130-5269.

Comments Due: 5 p.m. ET 2/21/12.

Docket Numbers: ER12-925-000.

Applicants: Central Maine Power Company.

Description: Central Maine Power Company—Topsham Hydro Partners LP Interconnection Agreement. to be effective 1/1/2012.

Filed Date: 1/30/12.

Accession Number: 20120130-5062.

Comments Due: 5 p.m. ET 2/21/12.

Docket Numbers: ER12-926-000.

Applicants: Central Maine Power Company.

Description: Central Maine Power Company—Robbins Lumber, Inc. Interconnection Agreement to be effective 1/1/2012.

Filed Date: 1/30/12.

Accession Number: 20120130-5076.

Comments Due: 5 p.m. ET 2/21/12.

Docket Numbers: ER12-927-000.

Applicants: Southwest Power Pool, Inc.

Description: 2289 Southwestern Power Administration Loss Compensation to be effective 1/1/2012.

Filed Date: 1/30/12.

Accession Number: 20120130-5111.

Comments Due: 5 p.m. ET 2/21/12.

Docket Numbers: ER12-928-000.

Applicants: Duke Energy Carolinas, LLC.

Description: NCEMC and NCMPA NITSA Revisions to be effective 1/1/2012.

Filed Date: 1/30/12.

Accession Number: 20120130-5112.

Comments Due: 5 p.m. ET 2/21/12.

Docket Numbers: ER12-929-000.

Applicants: Southern California Edison Company.

Description: SGIA WDAT SERV AG SCE-TDBU SCE-PPD 9687 Transport Fontana Roof Top Solar Project to be effective 1/31/2012.

Filed Date: 1/30/12.

Accession Number: 20120130-5137.

Comments Due: 5 p.m. ET 2/21/12.

Docket Numbers: ER12-930-000.

Applicants: Southern California Edison Company.

Description: SGIA WDAT SERV AG SCE-TDBU SCE-PPD 1901 CA St Redlands Roof Top Solar Project to be effective 1/31/2012.

Filed Date: 1/30/12.

Accession Number: 20120130-5139.

Comments Due: 5 p.m. ET 2/21/12.

Docket Numbers: ER12-931-000.

Applicants: Southern California Edison Company.

Description: Notice of Cancellation of SGIA WDAT SERV AG with SCE-GPS for Site 31 Project to be effective 8/29/2011.

Filed Date: 01/30/2012.

Accession Number: 20120130-5152.

Comments Due: 5 p.m. ET 2/21/12.

Docket Numbers: ER12-932-000.

Applicants: Southwest Power Pool, Inc.

Description: 1765R5 Kansas City Power and Light GMO NITSA NOAS to be effective 12/1/2011.

Filed Date: 1/30/12.

Accession Number: 20120130-5193.

Comments Due: 5 p.m. ET 2/21/12.

Docket Numbers: ER12-933-000.

Applicants: Public Service Company of Colorado.

Description: 20120130_BHCE Notice of Cancellation to be effective 12/31/2011.

Filed Date: 1/30/12.

Accession Number: 20120130-5205.

Comments Due: 5 p.m. ET 2/21/12.

Docket Numbers: ER12-934-000.

Applicants: PJM Interconnection, L.L.C.

Description: First Revised Service Agreement No. 2437; Queue No. V2-025 to be effective 12/29/2011.

Filed Date: 1/30/12.

Accession Number: 20120130-5253.

Comments Due: 5 p.m. ET 2/21/12.

Docket Numbers: ER12-935-000.

Applicants: Arizona Public Service Company.

Description: Service Agreement 216-Added Points of Delivery and Direct Assignment Charge to be effective 3/31/2012.

Filed Date: 1/30/12.

Accession Number: 20120130-5259.

Comments Due: 5 p.m. ET 2/21/12.

Docket Numbers: ER12-936-000.

Applicants: Southwest Power Pool, Inc.

Description: Revisions to Update SPA's Pricing Zone Rate to be effective 1/1/2012.

Filed Date: 1/30/12.

Accession Number: 20120130-5270.

Comments Due: 5 p.m. ET 2/21/12.

Docket Numbers: ER12-937-000.

Applicants: Wildcat Power Holdings, LLC.

Description: Cancellation of Market-Based Rate Tariff to be effective 3/30/2012.

Filed Date: 1/30/12.

Accession Number: 20120130-5271.

Comments Due: 5 p.m. ET 2/21/12.

Docket Numbers: ER12-940-000.

Applicants: PacifiCorp.

Description: PacifiCorp's cancellation of Powerex service agreements.

Filed Date: 1/30/12.

Accession Number: 20120130-5308.

Comments Due: 5 p.m. ET 2/21/12.

Docket Numbers: ER12-941-000.

Applicants: Seneca Energy II, LLC.

Description: Petition of Seneca Energy II, LLC for Waiver of Show of Interest Deadline for ISO-NE FCA #7.

Filed Date: 1/30/12.

Accession Number: 20120130-5309.

Comments Due: 5 p.m. ET 2/21/12.

Docket Numbers: ER12-942-000.

Applicants: Southwest Power Pool, Inc.

Description: Southwest Power Pool, Inc.'s Notice of Cancellation.

Filed Date: 1/30/12.

Accession Number: 20120130-5316.

Comments Due: 5 p.m. ET 2/21/12.

Take notice that the Commission received the following land acquisition reports:

Docket Numbers: LA11-4-000.

Applicants: Pocahontas Prairie Wind, LLC.

Description: Quarterly Land Acquisition Report of Pocahontas Prairie Wind, LLC.

Filed Date: 1/30/12.

Accession Number: 20120130-5103.

Comments Due: 5 p.m. ET 2/21/12.

Docket Numbers: LA11-4-000.

Applicants: Astoria Generating Company, L.P.

Description: Quarterly Land Acquisition Report of Astoria Generating Company, L.P.

Filed Date: 1/30/12.

Accession Number: 20120130-5104.

Comments Due: 5 p.m. ET 2/21/12.

Docket Numbers: LA11-4-000.

Applicants: Elizabethtown Energy, LLC, Lumberton Energy, LLC, Hatchet Ridge Wind, LLC, Lyonsdale Biomass, LLC, ReEnergy Sterling CT Limited Partnership, Bayonne Plant Holding, L.L.C., Camden Plant Holding, L.L.C., Dartmouth Power Associates Limited Partnership, Elmwood Park Power, LLC, Newark Bay Cogeneration Partnership, L.P., Pedricktown Cogeneration Company LP, York Generation Company LLC, Boralex Ashland LP, Boralex Fort Fairfield LP, Boralex Livermore Falls LP, Boralex Stratton Energy LP, Black River Generation, LLC.

Description: Quarterly Land Acquisition Report of Elizabethtown Energy, LLC, et al.

Filed Date: 1/30/12.

Accession Number: 20120130-5317.

Comments Due: 5 p.m. ET 2/21/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 31, 2012.
Nathaniel J. Davis, Sr.,
Deputy Secretary.

[FR Doc. 2012-2712 Filed 2-6-12; 8:45 am]

BILLING CODE 6717-01-P